DEPARTMENT OF DEFENSE

Department of The Army

Notice of Availability of the Environmental Assessment (EA)/Finding of No Significant Impact (FNSI) for the Programmatic Treatment of Capehart and Wherry Era Housing

AGENCY: Department of the Army, DoD.

ACTION: Notice of availability.

SUMMARY: This announces the availability of the EA/FNSI for the Programmatic Treatment of Capehart and Wherry Era Housing under 36 CFR 800.14(e). The Army intends to sign the FNSI unless public comments identify significant impacts or issues that have not been considered. The Department of the Army (Army) is pursing a programmatic approach to compliance under Section 106 of the National Historic Preservation Act for its Capehart and Wherry Era Housing (1949-1962). The Army is facing a significant challenge that has direct implications for soldiers' quality of life as this housing represents 54% of the Army's total family housing stock and 70% of it is considered inadequate (defined as requiring a major repair, component upgrade, component replacement or total upgrade by the Army Family Housing Master Plan 2000). As such, the Army anticipates that all of this housing will be subject to rehabilitation, maintenance and repair, demolition and replacement, transfer, sale or lease in the next 10 years.

Development of the EA was preceded by coordination with the Advisory Council on Historic Preservation (ACHP), the National Conference of State Historic Preservation Officers (NCSHPO), and the National Trust for Historic Preservation (NTHP). In addition, the process of gathering public input and coordinating comment on this program was initiated by The Army at a symposium to seek the comments and suggestions of experts on the proposed treatment to these properties. The EA gives full consideration of request and implementation of Program Comments in accordance with 36 CFR 800.14(e) as the proposed action, and two reasonable alternatives to the proposed action.

DATES: Submit comments on or before February 19, 2002.

ADDRESSES: To obtain copies of the EA and FNSI, contact U.S. Army Environmental Center, ATTN: SFIM-AEC-PA (Bob DiMichele), Aberdeen Proving Ground, MD 21010-5401.

FOR FURTHER INFORMATION CONTACT: Mr. Lee Foster at (703) 693-0675.

SUPPLEMENTARY INFORMATION: The EA considered, evaluated and assessed alternatives: (i) The no action alternative (continued project-by-project review under 36 CFR Part 800); (ii) the Programmatic Agreement Alternative; and (iii) the proposed action alternative, request and implement Program Comments in accordance with 36 CFR 800.14(e). Consideration of the alternatives analyzed in the EA leads to The Army's decision to request and implement Program Comments. The no action alternative would allow a continued ad hoc approach to compliance with Section 106 and management of historic properties. With the anticipated growth in The Army's historic properties inventory, continued review of undertakings on a case-by-case basis will likely remain inefficient and lead to increased program costs. This could have adverse impacts on the ability of The Army to provide suitable housing for military families. The Programmatic Agreement (PA) Alternative better meets the stated purpose and need since it would provide a programmatic basis for Section 106 compliance. The PA approach, however, would require development of several separate compliance agreements. This approach would not be as comprehensive in scope and would not assure predictability as management actions are carried out. Like the no action alternative, the PA alternative could result in adverse impacts to The Army's ability to provide suitable housing to military families. The proposed action more squarely meets the stated purpose and need for action and provides the necessary balance between preservation and the need to expeditiously provide suitable housing to military families. While the proposed action has the potential to adversely impact historic properties, those impacts are not likely to be significant. The Army will ensure that effects on historic properties are considered and addressed up front through programmatic treatment.

Dated: January 15, 2002.
Raymond J. Fatz,
Deputy Assistant Secretary of the Army (Environment, Safety, and Occupational Health) OASA(I&E).

[FR Doc. 02-1405 Filed 1-17-02; 8:45 am]

BILLING CODE 3710-08-M